DEPARTMENT OF HOMELAND SECURITY

Coast Guard

[USCG-2009-0115]

Collection of Information Under Review by Office of Management and Budget: OMB Control Numbers: 1625-0009, 1625-0047, 1625-0063, 1625-0070, and 1625-0084

AGENCY: Coast Guard, DHS.

ACTION: Thirty-day notice requesting comments.

SUMMARY: In compliance with the Paperwork Reduction Act of 1995, this request for comments announces that the U.S. Coast Guard is forwarding five Information Collection Requests (ICRs), abstracted below, to the Office of Information and Regulatory Affairs (OIRA), Office of Management and Budget (OMB) requesting an extension of its approval for the following collections of information: (1) 1625-0009, Oil Record Book for Ships; (2) 1625-0047, Plan Review and Records for Vital System Automation;

(3) 1625-0063, Marine Occupational Health and Safety Standards for Benzene—46 CFR 197 subpart C; (4) 1625-0070, Vessel Identification System; and (5) 1625-0084, Audit Reports under the International Safety Management Code. Review and comments by OIRA ensure we only impose paperwork burdens commensurate with our performance of duties.

DATES: Please submit comments on or before July 24, 2009.

ADDRESSES: You may submit comments identified by Coast Guard docket number [USCG-2009-0115] to the Docket Management Facility (DMF) at the U.S. Department of Transportation (DOT) or to OIRA. To avoid duplication, please submit your comments by only one of the following means:

(1) Electronic submission. (a) To Coast Guard docket at http://www.regulation.gov. (b) To OIRA by e-mail via: oira_submission@omb.eop.gov.

(2) Mail or Hand delivery. (a) DMF (M-30), DOT, West Building Ground Floor, Room W12-140, 1200 New Jersey Avenue, SE., Washington, DC 20590-0001. Hand deliver between the hours of 9 a.m. and 5 p.m., Monday through Friday, except Federal holidays. The telephone number is 202-366-9329. (b) To OIRA, 725 17th Street, NW., Washington, DC 20503, attention Desk Officer for the Coast Guard.

(3) Fax. (a) To DMF, 202-493-2251. (b) To OIRA at 202-395-6566. To ensure your comments are received in time, mark the fax, attention Desk Officer for the Coast Guard.

The DMF maintains the public docket for this Notice. Comments and material received from the public, as well as documents mentioned in this Notice as being available in the docket, will become part of the docket and will be available for inspection or copying at room W12-140 on the West Building Ground Floor, 1200 New Jersey Avenue, SE., Washington, DC, between 9 a.m. and 5 p.m., Monday through Friday, except Federal holidays. You may also find the docket on the Internet at http://www.regulations.gov.

Copies of the ICRs are available through the docket on the Internet at http://www.regulations.gov.

Additionally, copies are available from: Commandant (CG-611), Attn Paperwork Reduction Act (PRA) Manager, US Coast Guard, 2100 2nd St, SW., Stop 7101, Washington, DC 20593-7101.

FOR FURTHER INFORMATION CONTACT: Contact Mr. Arthur Requina, Office of Information Management, telephone 202-475-3523 or fax 202-475-3929, for questions on these documents. Contact Ms. Renee V. Wright, Program Manager, Docket Operations, 202-366-9826, for questions on the docket.

SUPPLEMENTARY INFORMATION:

The Coast Guard invites comments on whether these ICRs should be granted based on it being necessary for the proper performance of Departmental functions. In particular, the Coast Guard would appreciate comments addressing: (1) The practical utility of the collections; (2) the accuracy of the estimated burden of the collections; (3) ways to enhance the quality, utility, and clarity of information subject to the collections; and (4) ways to minimize the burden of collections on respondents, including the use of automated collection techniques or other forms of information technology.

Comments to Coast Guard or OIRA must contain the OMB Control Number of the ICR. They must also contain the docket number of this request, [USCG 2009-0115]. For your comments to OIRA to be considered, it is best if they are received on or before July 24, 2009.

Public participation and request for comments: We encourage you to respond to this request by submitting comments and related materials. We will post all comments received, without change, to http://www.regulations.gov. They will include any personal information you provide. We have an agreement with DOT to use their DMF. Please see the “Privacy Act” paragraph below.

Submitting comments: If you submit a comment, please include the docket number [USCG-2009-0115], indicate the specific section of the document to which each comment applies, providing a reason for each comment. We recommend you include your name, mailing address, an e-mail address, or other contact information in the body of your document so that we can contact you if we have questions regarding your submission. You may submit comments and material by electronic means, mail, fax, or delivery to the DMF at the address under ADDRESSES; but please submit them by only one means. If you submit them by mail or delivery, submit them in an unbound format, no larger than 8-1/2 by 11 inches, suitable for copying and electronic filing. If you submit them by mail and would like to know that they reached the Facility, please enclose a stamped, self-addressed postcard or envelope. In response to your comments, we may revise the ICR or decide not to seek an extension of approval for this collection. The Coast Guard and OIRA will consider all comments and material received during the comment period.

Viewing comments and documents: Go to http://www.regulations.gov to view documents mentioned in this Notice as being available in the docket. Enter the docket number [USCG-2009-0115] in the Search box, and click, “Go>>.” You may also visit the DMF in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act statement regarding our public dockets in the January 17, 2008 issue of the Federal Register (73 FR 3316).

Previous Request for Comments.

This request provides a 30-day comment period required by OIRA. The Coast Guard has published the 60-day notice (74 FR 10752, March 12, 2009) required by 44 U.S.C. 3506(c)(2). That Notice elicited no comments.

Information Collection Request.

1. Title: Oil Record Book for Ships.

OMB Control Number: 1625-0009.

Type of Request: Extension of a currently approved collection.

Respondents: Operators of vessels.

Abstract: This information is used to verify sightings of actual violations of the Act to Prevent Pollution from Ships to determine the level of compliance with MARPOL 73/78 and as a means of reinforcing the discharge provisions.

Forms: CG-4602A.

Burden Estimate: The estimated burden has decreased from 26,993 hours to 19,425 hours a year.

2. Title: Plan Review and Records for Vital System Automation.

OMB Control Number: 1625-0047.

Type of Request: Extension of a currently approved collection.

Respondents: Designers, manufacturers, and owners of vessels.

Abstract: Title 46 U.S.C. 3306 authorizes the Coast Guard to promulgate regulations for the safety of personnel and property on board vessels. Various sections within parts 52, 56, 58, 62, 110, 111, and 113 of Title 46 of the CFR contain these rules.

Forms: None.

Burden Estimate: The estimated burden has decreased from 65,400 hours to 60,000 hours a year.

3. Title: Marine Occupational Health and Safety Standards for Benzene —46 CFR 197 subpart C.

OMB Control Number: 1625-0063.

Type of Request: Extension of a currently approved collection.

Respondents: Owners and operators of vessels.

Abstract: This information collection is vital to verifying compliance.

Forms: None.

Burden Estimate: The estimated burden remains 59,766 hours a year.

4. Title: Vessel Identification System.

OMB Control Number: 1625-0070.

Type of Request: Extension of a currently approved collection.

Respondents: Governments of States and Territories.

Abstract: Title 46 U.S.C. 12501 mandates the establishment of a Vessel Identification System (VIS). Title 33 CFR part 187 prescribe the requirements of VIS.

Forms: None.

Burden Estimate: The estimated burden has decreased from 5,829 hours to 5,456 hours a year.

5. Title: Audit Reports under the International Safety Management Code.

OMB Control Number: 1625-0084.

Type of Request: Extension of a currently approved collection.

Respondents: Owners/operators of vessels and organizations authorized to issue International Safety Management Code certificates for the United States.

Abstract: Title 46 U.S.C. 3203 authorizes the Coast Guard to prescribe regulations regarding safety management systems. Title 33 CFR part 96 contains the rules for those systems; hence the safe operation of vessels.

Forms: None.

Burden Estimate: The estimated burden has increased from 12,676 hours to 16,873 hours a year.

Authority: The Paperwork Reduction Act of 1995; 44 U.S.C. Chapter 35, as amended.

Dated: June 16, 2009.
M. B. Lytle,
Captain, U.S. Coast Guard, Acting Assistant Commandant for Command, Control, Communications, Computers and Information Technology.

[FR Doc. E9-14744 Filed 6-23-09; 8:45 am]

BILLING CODE 4910-15-P